DEPARTMENT OF DEFENSE

Office of the Secretary

U.S. Court of Appeals for the Armed Forces Code Committee Meeting

AGENCY: United States Court of Appeals for the Armed Forces, DoD.

ACTION: Notice of public meeting; Armed Forces Code Committee meeting.

SUMMARY: This notice announces the forthcoming public meeting of the Code Committee established by Article 146(a), Uniform Code of Military Justice, 10 U.S.C. 946(a). The agenda for this meeting will include consideration of proposed changes to the Uniform Code of Military Justice and the Manual for Courts—Martial, United States, and other matters relating to the operation of the Uniform Code of Military Justice throughout the Armed Forces.

DATES: Tuesday, May 17, 2005 at 10 a.m.

ADDRESSES: Courthouse of the United States Court of Appeals for the Armed Forces, 450 E Street, NW., Washington, DC 20442-0001.

FOR FURTHER INFORMATION CONTACT: William A. DeCicco, Clerk of Court, United States Court of Appeals for the Armed Forces, 450 E Street, NW., Washington, DC 20442-0001, telephone (202) 761-1448.

Dated: April 8, 2005.
Jeannette Owings-Ballard,
OSD Federal Register Liaison Officer, Department of Defense.

[FR Doc. 05-7807 Filed 4-18-05; 8:45 am]

BILLING CODE 5001-06-P